DEPARTMENT OF DEFENSE

Department of the Army

Performance Review Board Membership for the U.S. Army Consolidated Commands

AGENCY: Department of the Army, DoD.

ACTION: Notice.

SUMMARY: Notice is given of the names of members of a Performance Review Board for the Department of the Army.

EFFECTIVE DATE: November 25, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Consolidated Commands are:

1. MG Raymond D. Barrett Jr., Deputy Chief of Staff for Operations and Training, U.S. Army Training and Doctrine Command.

2. Mr. Michael F. Bauman, Director, U.S. Army Training and Doctrine Command Analysis Center.

3. Mr. Laurence H. Burger, Director, Space and Missile Defense Battle Laboratory, U.S. Army Space and Missile Defense Command.

4. Mr. William H. Campbell, III, Director of Operations and Support, OASA (Financial Management and Comptroller).

5. Mr. William J. Cooper, Special Assistant for Transportation Engineering, Military Traffic Management Command.

6. LTG Joseph M. Cosumano, Jr., Commanding General, U.S. Army Space and Missile Defense Command.

7. Dr. Charles N. Davidson, Director, U.S. Army Nuclear and Chemical Agency.

8. Ms. Jeannie A. Davis, Assistant Deputy Chief of Staff for Personnel and Installation Management (Civilian Personnel).

9. Dr. Henry C. Dubin, Chief Scientist, U.S. Army Space and Missile Defense Command.

10. MG Ann Dunwoody, Commander, Military Traffic Management Command.

11. Mr. Thomas J. Edwards, Deputy to the Commander, U.S. Army Combined Arms Support Command.

12. Mr. Jess F. Granone, Director, Space and Missile Defense Technical Center, U.S. Army Space and Missile Defense Command.

13. Mr. Robert J. Jefferis, Assistant Deputy Chief of Staff for Resource Management, U.S. Army Training and Doctrine Command.

14. Ms. Vicky Jefferis, Deputy Chief of Staff for Resource Management, Headquarters, Forces Command.

15. LTG Anthony R. Jones, DCG/Chief of Staff, U.S. Army Training and Doctrine Command.

16. MG Terry E. Juskowiak, Commander, U.S. Army Combined Arms Support Command.

17. Ms. Jeanne Karstens, Deputy Chief of Staff for Resource Management, Headquarters, U.S. Army, Europe.

18. Mr. J. Stephen Koons, Assistant Deputy Chief of Staff for Logistics, Headquarters, Forces Command.

19. Mr. Darell G. Lance, Chief of Staff, U.S. Intelligence and Security Command.

20. Dr. Michael J. Lavan, Director, Advanced Technology Directorate, U.S. Army Space and Missile Defense Command.

21. BG Robert P. Lennox, Deputy Commanding General, U.S. Army Space Command/Deputy Commanding General for Operations, U.S. Army Space and Missile Defense Command.

22. Mr. William R. Lucas, Jr., Deputy to the Commander, Military Traffic Management Command.

23. Mr. Mark J. Lumer, Principal Assistant Responsible for Contracting/Contracting & Acquisition Office, U.S. Army Space and Missile Defense Command.

24. Mr. Ronald G. Magee, Director of Operations, U.S. Army Training and Doctrine Command Analysis Center.

25. Mr. Maxie L. McFarland, Deputy Chief of Staff for Intelligence, U.S. Army Training and Doctrine Command.

26. Mr. Thomas V. Meeks, Technical Advisor-Sustaining Base/Quality of Life Affairs.

27. Mr. John C. Metzler, Jr., Director of Cemetery Operations, Arlington National Cemetery, Military District of Washington.

28. MG Robert W. Mixon, Jr., Deputy Chief of Staff for Developments, U.S. Army Training and Doctrine Command.

29. Mr. Robert L. Moore, Deputy Director, Logistics and Security Assistance, Headquarters, U.S. European Command.

30. BG Roger A. Nadeau, Program Executive Officer, Combat Support/Combat Service Support.

31. Mr. Jerry V. Proctor, Deputy for Futures, U.S. Army Intelligence Center and Fort Huachuca.

32. Mr. William C. Reeves, Jr., Director, Integration/Interoperability for Missile Defense/Director, IIMD RDA, U.S. Army Space and Missile Defense Command.

33. Mr. Allan M. Resnick, Assistant Deputy Chief of Staff for Combat Developments, U.S. Army Training and Doctrine Command.

34. Mr. Rodney Robertson, Director, Sensors Directorate, U.S. Army Space and Missile Defense Command.

35. BG Mark Scheid, Deputy Commanding General/Director of Operations, Military Traffic Management Command.

36. Mr. Robert E. Seger, Assistant Deputy Chief of Staff for Training Policy, Plans and Programs, U.S. Army Training and Doctrine Command.

37. Ms. Donna K. Vargas, Director of Operations, U.S. Army Training and Doctrine Command Analysis Center.

38. MG David P. Wherley, Jr., Commander, DC National Guard.

Luz D. Ortiz,
Army Federal Register Liaison Officer.

[FR Doc. 03-29980 Filed 12-1-03; 8:45 am]

BILLING CODE 3710-08-M